DEPARTMENT OF ENERGY

Federal Energy Regulatory Commission

Combined Notice of Filings #1

Take notice that the Commission received the following electric rate filings:

Docket Numbers: ER11-47-010; ER12-1540-008; ER12-1541-008; ER12-1542-008; ER12-1544-008; ER12-2343-008; ER13-1896-014; ER14-594-012; ER16-323-006; ER17-1930-002; ER17-1931-002; ER17-1932-002; ER11-41-010; ER11-46-013.

Applicants: Appalachian Power Company, Indiana Michigan Power Company, Kentucky Power Company, Kingsport Power Company, Wheeling Power Company, AEP Texas Inc., Public Service Company of Oklahoma, Southwestern Electric Power Company, Ohio Power Company, AEP Energy Partners, Inc., AEP Retail Energy Partners LLC, AEP Energy, Inc., AEP Generation Resources Inc., Ohio Valley Electric Corporation.

Description: Notice of Non-Material Change in Status of the AEP Companies.

Filed Date: 5/22/19.

Accession Number: 20190522-5208.

Comments Due: 5 p.m. ET 6/12/19.

Docket Numbers: ER11-2029-006.

Applicants: Cedar Creek II, LLC, Flat Ridge 2 Wind Energy LLC, Fowler Ridge II Wind Farm LLC, Mehoopany Wind Energy LLC.

Description: Notice of Change in Status of Cedar Creek II, LLC, et al.

Filed Date: 5/22/19.

Accession Number: 20190522-5219.

Comments Due: 5 p.m. ET 6/12/19.

Docket Numbers: ER19-1463-001.

Applicants: Upper Michigan Energy Resources Corporation.

Description: Tariff Amendment: Deferral of Commission Action in ER19-1463 to be effective 12/31/9998.

Filed Date: 5/23/19.

Accession Number: 20190523-5050.

Comments Due: 5 p.m. ET 6/13/19.

Docket Numbers: ER19-1954-000.

Applicants: Southwest Power Pool, Inc.

Description: Compliance filing: Order Nos. 845 and 845-A Compliance Filing to be effective 12/31/9998.

Filed Date: 5/22/19.

Accession Number: 20190522-5165.

Comments Due: 5 p.m. ET 6/12/19.

Docket Numbers: ER19-1955-000.

Applicants: Public Service Company of New Mexico.

Description: Compliance filing: Order 845 Compliance Filing to be effective 5/22/2019.

Filed Date: 5/22/19.

Accession Number: 20190522-5176.

Comments Due: 5 p.m. ET 6/12/19.

Docket Numbers: ER19-1956-000.

Applicants: Cube Yadkin Transmission LLC.

Description: Compliance filing: Order 845 Compliance Filing to be effective 5/22/2019.

Filed Date: 5/22/19.

Accession Number: 20190522-5178.

Comments Due: 5 p.m. ET 6/12/19.

Docket Numbers: ER19-1957-000.

Applicants: Alabama Power Company.

Description: Compliance filing: Order Nos. 845 and 845-A Interconnection Reform Compliance Filing to be effective 5/22/2019.

Filed Date: 5/22/19.

Accession Number: 20190522-5181.

Comments Due: 5 p.m. ET 6/12/19.

Docket Numbers: ER19-1958-000.

Applicants: PJM Interconnection, L.L.C.

Description: Compliance filing: Compliance filing to Order No. 845 re: Large Generator Interconnection to be effective 12/31/9998.

Filed Date: 5/22/19.

Accession Number: 20190522-5182.

Comments Due: 5 p.m. ET 6/12/19.

Docket Numbers: ER19-1959-000.

Applicants: Avista Corporation.

Description: Compliance filing: Avista Corp OATT Order 845/845A Compliance Filing to be effective 5/22/2019.

Filed Date: 5/22/19.

Accession Number: 20190522-5186.

Comments Due: 5 p.m. ET 6/12/19.

Docket Numbers: ER19-1960-000.

Applicants: Midcontinent Independent System Operator, Inc.

Description: Compliance filing: 2019-05-22_Attachment X Compliance relative to RM17-8 (Order 845) to be effective 12/31/9998.

Filed Date: 5/22/19.

Accession Number: 20190522-5187.

Comments Due: 5 p.m. ET 6/12/19.

Docket Numbers: ER19-1961-000.

Applicants: GridLiance High Plains LLC.

Description: Compliance filing: Compliance Filing to be effective 5/22/2019.

Filed Date: 5/22/19.

Accession Number: 20190522-5188.

Comments Due: 5 p.m. ET 6/12/19.

Docket Numbers: ER19-1961-001.

Applicants: GridLiance High Plains LLC.

Description: Compliance filing: Supplemental Filing to Order No. 845 Compliance Filing to be effective 5/22/2019.

Filed Date: 5/23/19.

Accession Number: 20190523-5056.

Comments Due: 5 p.m. ET 6/13/19.

Docket Numbers: ER19-1962-000.

Applicants: Southwest Power Pool, Inc.

Description: § 205(d) Rate Filing: 1166R33 Oklahoma Municipal Power Authority NITSA and NOA to be effective 7/1/2019.

Filed Date: 5/23/19.

Accession Number: 20190523-5036.

Comments Due: 5 p.m. ET 6/13/19.

Docket Numbers: ER19-1963-000.

Applicants: Midcontinent Independent System Operator, Inc., MidAmerican Energy Company.

Description: § 205(d) Rate Filing: 2019-05-23_MidAmerican Revisions to Modify Posting Date of Projected Net Rev Req to be effective 8/1/2019.

Filed Date: 5/23/19.

Accession Number: 20190523-5048.

Comments Due: 5 p.m. ET 6/13/19.

Docket Numbers: ER19-1964-000.

Applicants: Southwest Power Pool, Inc.

Description: § 205(d) Rate Filing: 1518R17 Arkansas Electric Cooperative Corp NITSA NOA to be effective 7/1/2019.

Filed Date: 5/23/19.

Accession Number: 20190523-5049.

Comments Due: 5 p.m. ET 6/13/19.

Docket Numbers: ER19-1965-000.

Applicants: Alcoa Power Generating Inc.

Description: Order Nos. 845 and 845-A Compliance Filing of Alcoa Power Generating Inc.

Filed Date: 5/22/19.

Accession Number: 20190522-5220.

Comments Due: 5 p.m. ET 6/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2019.
Nathaniel J. Davis, Sr.,
Deputy Secretary.

[FR Doc. 2019-11356 Filed 5-30-19; 8:45 am]

BILLING CODE 6717-01-P